DEPARTMENT OF ENERGY

Federal Energy Regulatory Commission

[Docket Nos. ER02-1656-017 and ER02-1656-018]

California Independent System Operator Corporation; Notice Establishing Due Dates for Filing Comments Arising From January 28-29, 2004, Staff Technical Conference and Announcing Location for March 3-5, 2004, Staff Technical Conference

February 12, 2004.

On January 28-29, 2004, the Federal Energy Regulatory Commission Staff held a technical conference to discuss with state representatives and market participants in California various substantive issues related to the California Independent System Operator Corporation's (CAISO) Revised MD02 proposal, including the flexible offer obligation proposal, the residual unit commitment process, pricing for constrained-output generators, marginal losses, and ancillary services.

Interested participants should submit comments arising from the discussions at the January 28-29 technical conference no later than February 17, 2004, as previously announced at the technical conference. The CAISO is also expected to respond substantively to these comments by February 24, 2004. The participants' comments and the CAISO's response will form the basis for further discussion of issues pertaining to the flexible offer obligation proposal, the residual unit commitment process, and constrained-output generators, among other things, at the Staff technical conference on March 3-5, 2004, as announced in the Notice of Technical Conference issued on February 6, 2004. The final agenda of the conference will be announced in a subsequent notice.

The March 3-5, 2004 technical conference will begin at 9 a.m. Pacific time on each day, and will adjourn at 5 p.m. Pacific time on March 5, 2004. The conference will be held at San Francisco Downtown Courtyard (Marriott), 299 Second Street, San Francisco, California.

The conference is open for the public to attend, and registration is not required. For more information about the conference, please contact: Olga Kolotushkina at (202) 502-6024 or at olga.kolotushkina@ferc.gov.

Magalie R. Salas,
Secretary.

[FR Doc. E4-339 Filed 2-19-04; 8:45 am]

BILLING CODE 6717-01-P